ENVIRONMENTAL PROTECTION AGENCY

[EPA-HQ-OPPT-2022-0843; FRL-10363-01-OCSPP]

Science Advisory Committee on Chemicals (SACC); Request for Nominations

AGENCY: Environmental Protection Agency (EPA).

ACTION: Notice.

SUMMARY: The Environmental Protection Agency (EPA) invites the public to nominate scientific experts from a diverse range of disciplines to be considered for appointment to the Science Advisory Committee on Chemicals (SACC), established pursuant to the Toxic Substances Control Act (TSCA). EPA anticipates appointing new SACC members by mid-2023 due to expiring membership terms. Sources in addition to this Federal Register notice may be utilized to solicit nominations and identify candidates. Any interested person or organization may nominate qualified individuals to be considered prospective candidates to the committee by following the instructions provided in this document. Individuals may also self-nominate.

DATES: Nominations must be received on or before December 12, 2022.

ADDRESSES: Submit your nominations, identified by the docket identification (ID) number EPA-HQ-OPPT-2022-0843, through the Federal e-Rulemaking Portal at https://www.regulations.gov. Do not submit electronically any information you consider to be Confidential Business Information (CBI) or other information whose disclosure is restricted by statute. More information about the dockets is available at https://www.epa.gov/dockets.

FOR FURTHER INFORMATION CONTACT: Tamue L. Gibson, MS, Designated Federal Officer (DFO) and Acting Executive Secretary, telephone number: (202) 564-7642; email address: gibson.tamue@epa.gov.

SUPPLEMENTARY INFORMATION:

I. General Information

A. Does this action apply to me?

This action is directed to the public in general. This action may, however, be of interest to those involved in the manufacture, processing, distribution, disposal, and/or those interested in the assessment of risks involving chemical substances and mixtures. Since other entities may also be interested, the Agency has not attempted to describe all the specific entities that may be affected by this action. If you have any questions regarding the applicability of this action to a particular entity, consult the DFO listed under FOR FURTHER INFORMATION CONTACT.

B. What should I consider as I prepare my nominations for EPA?

1. Submitting CBI.

Do not submit CBI information to EPA through regulations.gov or email. If your nomination contains any information that you consider to be CBI or otherwise protected, please contact the DFO listed under FOR FURTHER INFORMATION CONTACT to obtain special instructions before submitting your nomination. Information properly marked as CBI will not be disclosed except in accordance with the procedures set forth in 40 CFR part 2.

2. Request for nominations.

As part of a broader process for developing a pool of candidates for membership to the SACC, the EPA Peer Review and Ethics Branch (PREB) staff solicits the public and stakeholder communities for nominations of prospective candidates. Any interested person or organization may nominate qualified individuals to be considered as prospective candidates. Individuals may also self-nominate.

II. Background

The SACC is a federal advisory committee, established in December 2016 pursuant to TSCA section 2625(o), and chartered under the Federal Advisory Committee Act (FACA), 5 U.S.C. Appendix 2. EPA established the SACC to provide independent advice and recommendations to the EPA Administrator on the scientific basis for risk assessments, methodologies, and approaches relating to implementation of TSCA. The SACC members serve as Special Government Employees (SGEs) or Regular Government Employees (RGEs). The SACC expects to meet approximately 4 to 6 times per year, or as needed and approved by the DFO. Currently, there are 17 SACC members, with eight membership terms that will expire over the next year. Therefore, EPA anticipates appointing up to eight new members to the SACC by mid-2023.

III. Nominations

In accordance with Executive Order 14035 of June 25, 2021, entitled “Diversity, Equity, Inclusion, and Accessibility in the Federal Workforce” (86 FR 34593, June 30, 2021), EPA values and welcomes opportunities to increase diversity, equity, inclusion and accessibility on its federal advisory committees. In an effort to obtain nominations of diverse candidates, EPA encourages nominations of women and men of all racial and ethnic groups that draw from the full diversity of the Nation. Any interested person or organization may nominate qualified persons to be considered for appointment to this advisory committee. Individuals also may self-nominate. Nominations may be submitted in electronic format in accordance with the instructions under ADDRESSES.

Nominations should include candidates who have demonstrated high levels of competence, knowledge, and expertise in scientific/technical fields relevant to chemical safety and risk assessment. In particular, the nominees should include representation of the following disciplines, including, but not limited to: Human health and ecological risk assessment, biostatistics, epidemiology, pediatrics, physiologically based pharmacokinetics (PBPK), toxicology and pathology (including neurotoxicology, developmental/reproductive toxicology, and carcinogenesis), and the relationship of chemical exposures to women, children, and other potentially exposed or susceptible subpopulations.

To be considered, all nominations should include the following information: Current contact information for the nominee (including the nominee's name, organization, current business address, email address, and daytime telephone number); the disciplinary and specific areas of expertise of the nominee; and, when available, a biographical sketch of the nominee indicating current position, educational background; research activities; and recent service on other federal advisory committees and national or international professional organizations. Persons having questions about the nomination process should contact the DFO listed under FOR FURTHER INFORMATION CONTACT.

The DFO will acknowledge receipt of nominations. The names and biographical sketches of nominees identified by respondents to this Federal Register notice, other sources for nominations, and any additional candidates identified by EPA Staff, will be posted in a List of Candidates in the docket at https://www.regulations.gov and on the SACC website at https://www.epa.gov/tsca-peer-review. The availability of the list also will be announced through the Office of Chemical Safety and Pollution Prevention (OCSPP)'s listservs. You may subscribe to these listservs at the following website: https://public.govdelivery.com/accounts/USAEPAOPPT/subscriber/new?topic_id=USAEPAOPPT_101. Public comments on the List of Candidates will be accepted for 30 days from the date the list is posted. The public will be requested to provide relevant information or other documentation on nominees that the EPA should consider in evaluating candidates.

IV. Selection Criteria

In addition to scientific expertise, in selecting members, EPA will consider the differing perspectives and the breadth of collective experience needed to address EPA's charge to the SACC, as well as the following:

• Background and experiences that would contribute to the diversity of scientific viewpoints on the committee, including professional experiences in government, labor, public health, public interest, animal protection, industry, and other groups, as the EPA Administrator determines to be advisable (e.g., geographical location; social and cultural backgrounds; and professional affiliations).

• Skills and experience working on committees and advisory panels including demonstrated ability to work constructively and effectively in a committee setting.

• Absence of financial conflicts of interest or the appearance of a loss of impartiality.

• Willingness to commit adequate time for the thorough review of materials provided to the committee.

• Availability to participate in committee meetings.

Authority: 15 U.S.C. 2625 et seq; 5 U.S.C. Appendix 2 et seq.

Dated: November 5, 2022.
Michal Freedhoff,
Assistant Administrator, Office of Chemical Safety and Pollution Prevention.

[FR Doc. 2022-24550 Filed 11-9-22; 8:45 am]

BILLING CODE 6560-50-P